DEPARTMENT OF HOMELAND SECURITY

Coast Guard

33 CFR Part 165

[Docket No. USCG-2011-0228]

RIN 1625-AA00

Safety Zone, Brandon Road Lock and Dam to Lake Michigan including Des Plaines River, Chicago Sanitary and Ship Canal, Chicago River, and Calumet-Saganashkee Channel, Chicago, IL; Between Mile Markers 296.1 and 296.7

AGENCY: Coast Guard, DHS.

ACTION: Notice of enforcement of regulation.

SUMMARY: The Coast Guard will enforce a segment of the Safety Zone; Brandon Road Lock and Dam to Lake Michigan including Des Plaines River, Chicago Sanitary and Ship Canal, Chicago River, Calumet-Saganashkee Channel on all waters of the Chicago Sanitary and Ship Canal between Mile Marker 296.1 to Mile Marker 296.7 at specified times from August 3, 2015, through September 18, 2015. This action is necessary to protect the waterway, waterway users, and vessels from the hazards associated with the U.S. Fish and Wildlife Service's trial tests on the water for the Asian Carp studies.

During the enforcement periods listed below, entry into, transiting, mooring, laying-up or anchoring within the enforced area of this safety zone by any person or vessel is prohibited unless authorized by the Captain of the Port Lake Michigan or her designated representative.

DATES: The regulations in 33 CFR 165.930 will be enforced intermittently from 8 a.m. to 6 p.m. on Monday through Friday, from August 3, 2015, through August 14, 2015. In the event of a postponement of the trial tests due to inclement weather or other unforeseen circumstances, this zone will be enforced intermittently from 8 a.m. to 6 p.m. on Monday through Friday from August 24, 2015, through September 18, 2015, excluding September 7, 2015.

FOR FURTHER INFORMATION CONTACT: If you have questions on this document, call or email LT Lindsay Cook, Waterways Department, Coast Guard Marine Safety Unit Chicago, telephone 630-986-2155, email address D09-DG-MSUChicago-Waterways@uscg.mil.

SUPPLEMENTARY INFORMATION: The Coast Guard will enforce a segment of the Safety Zone; Brandon Road Lock and Dam to Lake Michigan including Des Plaines River, Chicago Sanitary and Ship Canal, Chicago River, Calumet-Saganashkee Channel, Chicago, IL, listed in 33 CFR 165.930. Specifically, the Coast Guard will enforce this safety zone on all waters of the Chicago Sanitary and Ship Canal between Mile Marker 296.1 to Mile Marker 296.7. Enforcement will occur intermittently from 8 a.m. to 6 p.m. on Monday through Friday, from August 3, 2015, through August 14, 2015. In the event of a postponement of the trial tests due to inclement weather or other unforeseen circumstances, this zone will be enforced intermittently from 8 a.m. to 6 p.m. on August 17, 2015, through September 18, 2015, excluding September 7, 2015.

This enforcement action is necessary because the Captain of the Port Lake Michigan has determined that the U.S. Fish and Wildlife Service's trial tests on the water for Asian Carp studies pose risks to life and property. Because of these risks, it is necessary to control vessel movement during the operations to prevent injury and property loss.

In accordance with the general regulations in § 165.23 of this part, entry into, transiting, mooring, laying up, or anchoring within the enforced area of this safety zone by any person or vessel is prohibited unless authorized by the Captain of the Port Lake Michigan or her designated representative.

Vessels that wish to transit through the safety zone may request permission from the Captain of the Port Lake Michigan. Requests must be made in advance and approved by the Captain of the Port before transits will be authorized. Approvals will be granted on a case by case basis. The Captain of the Port representative may be contacted via U.S. Coast Guard Sector Lake Michigan on VHF channel 16.

This document is issued under authority of 33 CFR 165.930 and 5 U.S.C. 552(a). In addition to this publication in the Federal Register, the Captain of the Port Lake Michigan will also provide notice through other means, which may include Broadcast Notice to Mariners, Local Notice to Mariners, local news media, distribution in leaflet form, and on-scene oral notice. Additionally, the Captain of the Port Lake Michigan may notify representatives from the maritime industry through telephonic and email notifications.

Dated: June 30, 2015.
A.B. Cocanour,
Captain, U.S. Coast Guard, Captain of the Port, Lake Michigan.

[FR Doc. 2015-17460 Filed 7-15-15; 8:45 am]

BILLING CODE 9110-04-P